DEPARTMENT OF TRANSPORTATION

National Highway Traffic Safety Administration

[U.S. DOT Docket No. NHTSA-2013-0070]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before August 5, 2013.

ADDRESSES: You may submit comments identified by DOT Docket ID Number NHTSA-2013-0070 using any of the following methods:

Electronic submissions: Go to http://www.regulations.gov. Follow the on-line instructions for submitting comments.

Mail: Docket Management Facility, M-30, U.S. Department of Transportation, 1200 New Jersey Avenue SE., West Building Ground Floor, Room W12-140, Washington, DC 20590.

Hand Delivery: West Building Ground Floor, Room W12-140, 1200 New Jersey Avenue SE, Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Mr. Alan Block, Contracting Officer's Technical Representative, Office of Behavioral Safety Research (NTI-131), National Highway Traffic Safety Administration, 1200 New Jersey Avenue SE., W46-499, Washington, DC 20590. Mr. Block's phone number is 202-366-6401 and his email address is alan.block@dot.gov

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(I) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Implementation of a Youth Traffic Safety Survey

Type of Request—New information collection requirement.

OMB Clearance Number—None.

Form Number—NHTSA Form 1199.

Requested Expiration Date of Approval—3 years from date of approval.

Summary of the Collection of Information—The National Highway Traffic Safety Administration (NHTSA) proposes to conduct a survey of young drivers ages 16 through 20 concerning traffic safety issues affecting young people in that age range. The survey would use Web as the primary response mode and mail as a second response mode. The sample would be drawn from driver license databases of States that choose to participate in the study. NHTSA would seek participation by eight States, two per Census Region. Contact with prospective respondents would be conducted through the mail. Young drivers would be asked to go to a designated Web site to take the survey. Follow up mailings would include as a second response option a paper version of the questionnaire that respondents can fill out and mail back. The survey would also provide the capability for the interview to be conducted by telephone if the prospective respondent requests that option. The questionnaire would cover topics such as general driving behavior, driver education and graduated driver licensing, parental oversight of driving, distraction and driving, drinking and driving, seat belt use, speeding and racing, crash experience, and traffic violations.

The survey would first be pilot-tested in a single State. One purpose of the pilot test would be to determine if it is feasible to administer the full version of the questionnaire to all respondents, or whether the questionnaire would need to be split into two shorter versions. The average amount of time for respondents to complete the full version of the questionnaire is estimated to be 25 minutes. The average amount of time estimated to complete the shorter versions is 15 minutes. The pilot test would compare the response rates of groups receiving the different questionnaire versions. Combined with other test conditions being used to assess survey administration issues, there would be a total of 9 respondent groups whose response rates would be compared.

The survey would be conducted primarily on-line, with the on-line technology serving to reduce length and minimize recording errors. Each respondent would be assigned a unique randomly generated PIN (Personal Identification Number) that must be used to access the questionnaire on the Web site. The personally identifiable information used to contact respondents would be held separately from the information provided by respondents to the survey so that no connection can be made between the two. No personally identifiable information would be collected during the interviews.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

Young drivers 16- to 20-years old are especially vulnerable to death and injury on our roadways, with traffic crashes being the leading cause of death for teenagers in America. It is essential that NHTSA be proactive in addressing young driver traffic safety. As a data-driven organization, this means collecting and analyzing quality data to identify the nature of young driver traffic safety problems, to guide development of intervention approaches, and to evaluate the effectiveness of interventions. While crash and fatality databases are invaluable sources of data applicable to these tasks, they do not tell the entire story. Attitudes, perceptions, knowledge, beliefs, preferences, and related factors often play a role in how the circumstances underlying a crash evolved. Situational and experiential factors also figure into the equation. Taking a comprehensive approach to preventing young driver crashes requires an understanding of this contextual information in order to fully assess the young driver crash problem and identify specific problems while also locating strategic points for intervention. This survey responds to those information needs.

This survey will fill in gaps in the information that NHTSA has regarding young drivers, and will be used by the agency to help guide its strategic planning of activities to improve traffic safety of people in this age group. States that participate in the survey will be provided with a snapshot picture of attitudes, knowledge, and self-reported driving-related behavior of young people in their State that they can use in their own traffic safety planning activities, and that they can disseminate to their local jurisdictions. The aggregated data across States will provide a status report on where young drivers stand with regards to key traffic safety issues for use by traffic safety professionals and other concerned individuals in planning, developing, refining, and implementing measures to improve young driver safety.

Description of the Likely Respondents (Including Estimated Number, and Proposed Frequency of Response to the Collection of Information)—A maximum of 100 licensed drivers ages 18 through 20 would be recruited to participate in usability tests to identify any problems with self-administration of the Web-based questionnaire. Sixteen- and seventeen-year-olds would not yet be included as not all steps that need to be carried out to allow participation by people this young would have been completed at this stage of the project. Those steps would be completed by the time the project is ready to conduct the pilot test, in which 6,300 young people ages 16 through 20 listed in the driver license database of one State would be mailed a request to participate in the survey. For purposes of burden estimation this project will assume a response rate upper limit of 50%, or a maximum of 3,150 completed pilot test interviews.

The final survey would be administered to young people ages 16 through 20 listed in the driver license database of one of the States participating in the survey. There would be eight participating States. The number of respondents would depend on results of the pilot test in addition to the response rate. For each of the eight States, 8,000 young drivers would be mailed the request to participate in the survey if the pilot test determines that it is feasible to administer the longer version of the questionnaire. An upper limit response rate of 50% equates to a maximum of 4,000 completed interviews per State, or 32,000 for the survey. But if the pilot test indicates that the questionnaire will need to be split into two shorter questionnaires, then the number of respondents would double to a maximum of 64,000 as 8,000 requests to participate in the survey would be mailed per questionnaire in each State.

Businesses are ineligible for the sample and would not be interviewed. All respondents would be administered the survey one time only.

Estimate of the Total Annual Reporting and Record Keeping Burden Resulting From the Collection of Information—NHTSA estimates that the respondents participating in the usability testing would average 1 hour in carrying out that activity. The number of respondents would not exceed 100, producing a maximum burden of 100 hours.

The projected 3,150 maximum completed interviews for the pilot test would be split among those receiving the full questionnaire (one-third of respondents) and those receiving the shortened versions (two-thirds of respondents, divided between those who get shortened Version A and those who get shortened Version B). The full version would require an average of 25 minutes for the 1,050 respondents for a burden of 437.5 hours. The shortened versions would require an average of 15 minutes for the 2,100 respondents for a burden of 525 hours. The total burden for the pilot test would therefore be a maximum of 962.5 hours.

If the pilot test indicates that administration of the full version of the questionnaire is feasible, then a maximum of 32,000 respondents would spend an average of 25 minutes completing the final survey, for a burden of 13,333.33 hours. If the pilot test instead indicates that the final survey will need to employ the shorter questionnaires, then a maximum of 64,000 respondents would spend an average of 15 minutes completing the survey, for a burden of 16,000 hours.

The maximum reporting burden for the Implementation of a Youth Traffic Safety Survey would be 100 hours for the usability testing, 962.5 hours for the pilot test, and 16,000 hours for the final survey if two questionnaires are used for a grand total of 17,062.5 hours.

All interviewing would occur during a single calendar year. Thus the annual reporting burden would be the entire 17,062.5 hours. The respondents would not incur any reporting cost from the information collection. The respondents also would not incur any record keeping burden or record keeping cost from the information collection.

Authority: 44 U.S.C. 3506(c)(2)(A).

Issued on: May 31, 2013.
Jeffrey Michael,
Associate Administrator, Research and Program Development.

[FR Doc. 2013-13415 Filed 6-5-13; 8:45 am]

BILLING CODE 4910-59-P